DEPARTMENT OF COMMERCE

National Oceanic and Atmospheric Administration

50 CFR Part 622

[Docket No. 160906822-7547-02]

RIN 0648-XF602

Snapper-Grouper Fishery of the South Atlantic; 2017 Recreational and Commercial Closures for the Florida Keys/East Florida Stock of Hogfish in the South Atlantic and Gulf of Mexico

AGENCY: National Marine Fisheries Service (NMFS), National Oceanic and Atmospheric Administration (NOAA), Commerce.

ACTION: Temporary rule; closure.

SUMMARY: NMFS implements accountability measures (AMs) for the recreational and commercial sectors for the Florida Keys/East Florida (FLK/EFL) hogfish stock in the exclusive economic zone (EEZ) for the 2017 fishing year through this temporary rule. NMFS estimates recreational and commercial hogfish landings for the FLK/EFL stock for the 2017 fishing year have reached their respective annual catch limits (ACLs). Therefore, NMFS closes the recreational and commercial sectors for the FLK/EFL stock of hogfish in the South Atlantic and Gulf of Mexico EEZ on August 24, 2017, through the remainder of the 2017 fishing year. This closure is necessary to protect the FLK/EFL hogfish resource.

DATES: This rule is effective 12:01 a.m., local time, August 24, 2017, until 12:01 a.m., local time, January 1, 2018.

FOR FURTHER INFORMATION CONTACT: Nikhil Mehta, NMFS Southeast Regional Office, telephone: 727-824-5305, email: nikhil.mehta@noaa.gov.

SUPPLEMENTARY INFORMATION: The snapper-grouper fishery of the South Atlantic includes hogfish and is managed under the Fishery Management Plan for the Snapper-Grouper Fishery of the South Atlantic Region (FMP). The FMP was prepared by the South Atlantic Fishery Management Council (Council) and is implemented by NMFS under the authority of the Magnuson-Stevens Fishery Conservation and Management Act (Magnuson-Stevens Act) by regulations at 50 CFR part 622.

The final rule for Amendment 37 to the FMP established two stocks of hogfish with new stock boundaries under the jurisdiction of the Council (82 FR 34584; July 25, 2017). One stock is the Georgia through North Carolina (GA/NC) hogfish stock, which has a southern boundary extending east from the Florida and Georgia state border to the seaward boundary of the EEZ. The GA/NC stock's management area then extends northward to a line extending east from the North Carolina and Virginia state border to the seaward boundary of the EEZ. The other stock is the FLK/EFL hogfish stock. The FLK/EFL hogfish stock's management area extends south of 25°09′ N. latitude off the west coast of Florida in the Gulf of Mexico (near Cape Sable, Florida), east around South Florida, and then north off the east coast of Florida to a line extending east from the Florida/Georgia border to the seaward boundary of the EEZ. The final rule for Amendment 37 also established ACLs and AMs for both stocks of hogfish. The management measures in the final rule for Amendment 37 are effective on August 24, 2017.

The final rule for Amendment 37 established a recreational ACL of 15,689 fish and a commercial ACL of 3,510 lb (1592 kg), round weight, for the FLK/EFL hogfish stock for the 2017 fishing year. In accordance with regulations at 50 CFR 622.193(u)(2)(i) and (ii), the recreational and commercial AMs for the FLK/EFL stock require an in-season closure of the respective sector if that sector's ACL is met or is projected to be met, and NMFS is then required to close the applicable sector by filing a notification to that effect with the Office of the Federal Register.

NMFS has determined that the 2017 recreational and commercial ACLs for the FLK/EFL hogfish stock established by Amendment 37 have already been reached. This temporary rule implements AMs to close the recreational and commercial sectors for the FLK/EFL hogfish stock for the remainder of the 2017 fishing year. Accordingly, this AM closes the recreational and commercial sectors for the FLK/EFL stock of hogfish in the South Atlantic EEZ effective 12:01 a.m. local time, August 24, 2017, until January 1, 2018, the start of the next fishing year. As established in Amendment 37, harvest for the recreational sector reopens on May 1, 2018, as recreational harvest is prohibited January through April and November through December each year. During recreational and commercial closures, the bag and possession limits for the FLK/EFL stock of hogfish in or from the EEZ are zero.

Classification

The Regional Administrator, Southeast Region, NMFS, has determined this temporary rule is necessary for the conservation and management of the FLK/EFL stock of hogfish in the South Atlantic snapper-grouper fishery and is consistent with the Magnuson-Stevens Act and other applicable laws.

This action is taken under 50 CFR 622.193(u)(2)(i) and(ii) and is exempt from review under Executive Order 12866.

These measures are exempt from the procedures of the Regulatory Flexibility Act because the temporary rule is issued without opportunity for prior notice and public comment.

This action responds to the best scientific information available. The Assistant Administrator for NOAA Fisheries (AA) finds that the need to immediately implement this action to close the recreational and commercial sectors for the FLK/EFL stock of hogfish constitutes good cause to waive the requirements to provide prior notice and opportunity for public comment on this temporary rule pursuant to 5 U.S.C. 553(b)(B), because such procedures are unnecessary and contrary to the public interest. Such procedures are unnecessary because the AMs established by Amendment 37 (82 FR 34584, July 25, 2017) and located at 50 CFR 622.193(u)(2)(i) and (ii) have already been subject to notice and public comment. All that remains is to notify the public of the recreational and commercial closures for the FLK/EFL stock of hogfish for the remainder of the 2017 fishing year. Such procedures are contrary to the public interest because of the need to immediately implement this action to protect the FLK/EFL hogfish resource, since time for notice and public comment will allow for continued recreational and commercial harvest and further exceedance of the recreational and commercial ACLs.

For the aforementioned reasons, the AA also finds good cause to waive the 30-day delay in the effectiveness of this action under 5 U.S.C. 553(d)(3).

Authority: 16 U.S.C. 1801 et seq.

Dated: August 21, 2017.
Margo B. Schulze-Haugen,
Acting Director, Office of Sustainable Fisheries, National Marine Fisheries Service.

[FR Doc. 2017-17958 Filed 8-21-17; 4:15 pm]

BILLING CODE 3510-22-P